ENVIRONMENTAL PROTECTION AGENCY

40 CFR Part 52

[MN79-2; FRL-7578-6]

Approval and Promulgation of Air Quality Implementation Plans; Minnesota; Withdrawal of Direct Final Rule

AGENCY: Environmental Protection Agency (EPA).

ACTION: Withdrawal of direct final rule.

SUMMARY: Due to the receipt of an adverse comment, the EPA is withdrawing the direct final rule approving a site-specific revision to the Minnesota sulfur dioxide (SO2) Implementation Plan (SIP) for Xcel Energy (formerly known as Northern States Power Company) Inver Hills Generating Plant located in the City of Inver Grove Heights, Dakota County, Minnesota. In the direct final rule published on September 2, 2003 (68 FR 52110), EPA stated that if EPA receives adverse comment by October 2, 2003, the SO2 rule would be withdrawn and not take effect. On September 2, 2003, EPA subsequently received one comment. We believe this comment is adverse and therefore, we are withdrawing the direct final rule. EPA will address the comment received in a subsequent final action based on the proposed action published on September 2,2003.

DATES: The direct final rule published at 68 FR 52110 on September 2, 2003 is withdrawn as of October 27, 2003.

FOR FURTHER INFORMATION CONTACT: Christos Pantos, Criteria Pollutant Section, Air Programs Branch (AR-18J), U.S. Environmental Protection Agency, 77 West Jackson Boulevard, Chicago, Illinois 60604. Telephone: (312) 353-8328. E-mail address: panos.christos@epa.gov.

List of Subjects in 40 CFR Part 52

Environmental protection, Air pollution control, Intergovernmental relations, Reporting and recordkeeping requirements, Sulfur dioxide.

Authority: 42 U.S.C. 7401 et seq.

Dated: October 16, 2003.
Bharat Mathur,
Acting Regional Administrator, Region 5.

PART 52—[AMENDED]

Accordingly, the amendment of 40 CFR 52.1220(c) as published at 68 FR 52113 (September 2, 2003) is withdrawn as of October 27, 2003.

[FR Doc. 03-26921 Filed 10-24-03; 8:45 am]

BILLING CODE 6560-50-P